DEPARTMENT OF AGRICULTURE

Natural Resources Conservation Service

Notice of Proposed Changes to Section IV of the Field Office Technical Guide (FOTG) of the Natural Resources Conservation Service in Michigan

AGENCY: Natural Resources Conservation Service (NRCS) in Michigan, US Department of Agriculture.

ACTION: Notice of availability of proposed changes in Michigan NRCS FOTG, Section IV for review and comment.

SUMMARY: It is the intention of NRCS in Michigan to issue revised conservation practice standards in Section IV of the FOTG. The revised standards include:

Fence (382)

Firebreak (394)

Hedgerow Planting (422)

Prescribed Burning (338)

Use Exclusion (472)

Forest Stand Improvement (666)

Heavy Use Area Protection (561)

Riparian Herbaceous Cover (390)

Stream Habitat Improvement and Management (395)

Tree/Shrub Planting (660)

Water Well (642)

Composting Facility (317)

Forest Site Preparation (490)

Recreation Land Grading and Shaping (566)

Recreation Trail and Walkway (568)

Waste Storage Facility (313)

DATES: Comments will be received on or before November 21, 2001.

FOR FURTHER INFORMATION CONTACT: Inquire in writing to Kevin Wickey, Assistant State Conservationist for Technology, Natural Resources Conservation Service, 3001 Coolidge Road, Suite 250, E. Lansing, MI 48823 or telephone Mr. Wickey at 517-324-5279. Copies of these standards will be made available upon written request. You may submit electronic requests and comments to Kevin.Wickey@mi.usda.gov.

SUPPLEMENTARY INFORMATION: Section 393 of the Federal Agriculture Improvement and Reform Act of 1996 states that revisions made after enactment of the law, to NRCS state technical guides used to carry out highly erodible land and wetland provisions of the law, shall be made available for public review and comment.

For the next 30 days, the NRCS in Michigan will receive comments relative to the proposed changes. Following that period, a determination will be made by the NRCS in Michigan regarding disposition of those comments and a final determination of change will be made.

Dated: September 26, 2001.
Ronald C. Williams,
State Conservationist, E. Lansing, Michigan.

[FR Doc. 01-26474 Filed 10-19-01; 8:45 am]

BILLING CODE 3410-16-P